DEPARTMENT OF TRANSPORTATION

Federal Aviation Administration

Notice of Intent To Rule on Application 04-08-C-00-RHI To Impose and Use the Revenue From a Passenger Facility Charge (PFC) at Rhinelander-Oneida County Airport, Rhinelander, WI

AGENCY: Federal Aviation Administration (FAA), DOT.

ACTION: Notice of Intent To Rule on Application.

SUMMARY: The FAA proposes to rule and invites public comment on the application to impose and use the revenue from a PFC at Rhinelander-Oneida County Airport under provisions of the Aviation Safety and Capacity Expansion Act of 1990 (Title IX of the Omnibus Budget Reconciliation Act of 1990) (Pub. L. 101-508) and part 158 of the Federal Aviation Regulations (14 CFR part 158).

DATES: Comments must be received on or before May 27, 2004.

ADDRESSES: Comments on this application may be mailed or delivered in triplicate to the FAA at the following address: FAA Minneapolis Airports District Office, 6020 28th Avenue South, Room 102, Minneapolis, Minnesota 55450.

In addition, one copy of any comments submitted to the FAA must be mailed or delivered to Ms. Sherrie Baker, Assistant Director, Rhinelander-Oneida County Airport at the following address: 3375 Airport Road, Rhinelander, Wisconsin 54501.

Air carriers and foreign air carriers may submit copies of written comments previously provided to Rhinelander-Oneida County, under section 158.23 of Part 158.

FOR FURTHER INFORMATION CONTACT: Mr. Daniel J. Millenacker, Program Manager, Federal Aviation Administration, Airports District Office, 6020 28th Ave. South, Room 102, Minneapolis, MN 55450, (612) 713-4350. The application may be reviewed in person at this same location.

SUPPLEMENTARY INFORMATION: The FAA proposes to rule and invites public comment on the application to impose and use the revenue from a PFC at Rhinelander-Oneida County Airport under provisions of the Aviation Safety and Capacity Expansion Act of 1990 (Title IX of the Omnibus Budget Reconciliation Act of 1990) (Pub. L. 101-508) and Part 158 of the Federal Aviation Regulations (14 CFR part 158).

On April 9, 2004, the FAA determined that the application to impose and use the revenue from a PFC submitted by Rhinelander-Oneida County, was substantially complete within the requirements of § 158.25 of Part 158. The FAA will approve or disapprove the application, in whole or in part, no later than August 7, 2004.

The following is a brief overview of the application.

Level of the proposed PFC: $4.50

Proposed charge effective date: January 1, 2005

Proposed charge expiration date: March 31, 2006

Total estimated PFC revenue: $200,936

Brief description of proposed projects: Acquire Snow Removal Equipment; Replace Airport Rescue and Firefighting Building Overhead Door; Painting/Marking Runway 9/27; Wildlife Fencing, Habitat Modification, and Bird Hazard Reduction Equipment; Environmental Assessment of Parallel Taxiway for Runway 15/33; Land Acquisition; Master Planning Updates; Replace Airport Beacon; Design Reconstruction of Runway 15/33; Reconstruction of Runway 15/33; Replace Runway End Identifier Lights on Runway 15; Design and Reconstruction/Construction General Aviation Apron and Taxiway; and PFC Administration.

Class or classes of air carriers which the public agency has requested not be required to collect PFCs: Part 135 air taxi/commercial operators (ATCO).

Any person may inspect the application in person at the FAA office listed above under FOR FURTHER INFORMATION CONTACT.

In addition, any person may, upon request, inspect the application, notice and other documents germane to the application in person at the Rhinelander-Oneida County Airport.

Issued in Des Plaines, Illinois on April 19, 2004.
Barbara J. Jordan,
Acting Manager, Planning and Programming Branch, Airports Division, Great Lakes Region.

[FR Doc. 04-9518 Filed 4-26-04; 8:45 am]

BILLING CODE 4910-13-M